DEPARTMENT OF TRANSPORTATION

Federal Aviation Administration

Notice of Intent to Rule on Application 02-02-C-00-BZN to Impose and Use the Revenue from a Passenger Facility Charge (PFC) at Gallatin Field Airport, Submitted by the Gallatin Airport Authority, Gallatin Field Airport, Belgrade, MT

AGENCY: Federal Aviation Administration (FAA), DOT.

ACTION: Notice of intent to rule on application.

SUMMARY: The FAA proposes to rule and invites public comment on the application to impose and use PFC revenue at Gallatin Field Airport under the provisions of 49 U.S.C. 40117 and part 158 of the Federal Aviation Regulations (14 CFR part 158).

DATES: Comments must be received on or before October 23, 2002.

ADDRESSES: Comments on this application may be mailed or delivered in triplicate to the FAA at the following address: David S. Stelling, Manager; Helena Airports District Office, HLN-ADO; Federal Aviation Administration; FAA Building, Suite 2; 2725 Skyway Drive, Helena, Montana 59602-1213.

In addition, one copy of any comments submitted to the FAA must be mailed or delivered to Ted Mathis, Airport Director: 850 Gallatin Field Road, Suite #6, Belgrade, Montana 59714.

Air carriers and foreign air carriers may submit copies of written comments previously provided to Gallatin Field Airport, under § 158.23 of part 158.

FOR FURTHER INFORMATION CONTACT: David S. Stelling, Manager; Helena Airports District Office, HLN-ADO; Federal Aviation Administration; FAA Building, Suite 2; 2725 Skyway Drive, Helena, Montana 59602-1213. The application may be reviewed in person at this same location.

SUPPLEMENTARY INFORMATION: The FAA proposes to rule and invites public comment on the application 02-02-C-00-BZN to impose and use PFC revenue at Gallatin Field Airport, under the provisions of 49 U.S.C. 40117 and part 158 of the Federal Aviation Regulations (14 CFR part 158).

On September 12, 2002, the FAA determined that the application to impose and use the revenue from a PFC submitted by Gallatin Airport Authority, Gallatin Field Airport, Belgrade, Montana, was substantially complete with the requirements of § 158.25 of part 18. The FAA will approve or disapprove the application, in whole or in part, no later than December 12, 2002. The following is a brief overview of the application.

Level of the proposed PFC: $3.00.

Proposed charge effective date: May 1, 2002.

Proposed charge expiration date: April 1, 2006.

Total requested for use approval: $1,790,000.

Brief description of proposed project: Construct equipment storage building; expand terminal apron; acquire broom sweeper truck; rehabilitate taxiways A, B, C, D, E, and the portion of Runway 3/21 between taxiways A and Runway 12-30; and rehabilitate Runway 12/30.

Class or classes of air carriers, which the public agency has requested not be required to collect PFC's: Air Taxi/Commercial Operators (ATCO) filing FAA form 1800-31.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Gallatin Field Airport.

Issued in Renton, Washington, on September 12, 2002.
David A. Field,
Manager, Planning, Programming and Capacity Branch, Northwest Mountain Region.

[FR Doc. 02-24133 Filed 7-20-02; 8:45 am]

BILLING CODE 4910-13-M